ENVIRONMENTAL PROTECTION AGENCY

40 CFR Part 300

[EPA-HQ-SFUND-1987-0002; FRL-10010-08-Region 3]

National Oil and Hazardous Substances Pollution Contingency Plan; National Priorities List: Deletion of the First Piedmont Rock Quarry (Route 719) Superfund Site

AGENCY: Environmental Protection Agency (EPA).

ACTION: Proposed rule; notice of intent.

SUMMARY: The Environmental Protection Agency (EPA) Region III is issuing a Notice of Intent to Delete the First Piedmont Rock Quarry (Route 719) Superfund Site (Site) located in Pittsylvania County, Virginia, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the Commonwealth of Virginia, through the Virginia Department of Environmental Quality (VDEQ), have determined that all appropriate response actions under CERCLA, other than operation and maintenance (O&M), monitoring, and five-year reviews, have been completed. However, this deletion does not preclude future actions under Superfund.

DATES: Comments must be received by July 23, 2020.

ADDRESSES: You may submit comments, identified by Docket ID No. EPA-HQ-SFUND-1987-0002, by any of the following methods:

• Federal eRulemaking Portal: https://www.regulations.gov (our preferred method). Follow the instructions for submitting comments.

• Email: sorto.evelyn@epa.gov. Include Docket ID No. EPA-HQ-SFUND-1987-0002 in the subject line of the message.

• Written comments submitted by mail are temporarily suspended and no hand deliveries will be accepted. We encourage the public to submit comments via https://www.regulations.gov.

Instructions: Direct your comments to Docket ID No. EPA-HQ-SFUND-1987-0002. Comments may also be submitted electronically or by following the detailed instructions in the ADDRESSES section of the direct final rule located in the rules section of this Federal Register.

FOR FURTHER INFORMATION CONTACT:

Technical information: Evelyn Sorto, 215-814-2123, sorto.evelyn@epa.gov.

Legal information: Ami Antoine, 215-814-2497, antoine.ami@epa.gov.

SUPPLEMENTARY INFORMATION: In the “Rules and Regulations” section of this issue of the Federal Register, we are publishing a direct final Notice of Deletion of the First Piedmont Rock Quarry (Route 719) Superfund Site without prior Notice of Intent to Delete because we view this as a noncontroversial revision and anticipate no adverse comment. We have explained our reasons for this deletion in the preamble to the direct final Notice of Deletion, and those reasons are incorporated herein. If we receive no adverse comment(s) on this deletion action, we will not take further action on this Notice of Intent to Delete. If we receive adverse comment(s), we will withdraw the direct final Notice of Deletion, and it will not take effect. We will, as appropriate, address all public comments in a subsequent final Notice of Deletion based on this Notice of Intent to Delete. We will not institute a second comment period on this Notice of Intent to Delete. Any parties interested in commenting must do so at this time.

For additional information, see the direct final Notice of Deletion which is located in the “Rules and Regulations” section of this issue of the Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1251 et seq.

Dated: June 16, 2020.
Cosmo Servidio,
Regional Administrator, EPA Region III.

[FR Doc. 2020-13451 Filed 6-22-20; 8:45 am]

BILLING CODE 6560-50-P